DEPARTMENT OF HEALTH AND HUMAN SERVICES

Administration for Children and Families

Tribal Consultation Meetings

AGENCY: Office of Head Start (OHS), Administration for Children and Families (ACF), U.S. Department of Health and Human Services (HHS).

ACTION: Notice of meetings.

SUMMARY: Pursuant to the Head Start Act, notice is hereby given of three 1-day tribal consultation sessions to be held between HHS/ACF OHS leadership and the leadership of tribal governments operating Head Start and Early Head Start programs. The purpose of these consultation sessions is to discuss ways to better meet the needs of American Indian and Alaska Native (AIAN) children and their families, taking into consideration funding allocations, distribution formulas, and other issues affecting the delivery of Head Start services in their geographic locations. Three tribal consultations will be held as part of HHS/ACF or ACF Tribal Consultation Sessions. Please note the planned tribal consultation dates may be impacted by COVID-19 travel restrictions. OHS will consider virtual means of facilitating tribal consultations and/or the postponing of tribal consultations should travel restrictions and group meeting limitations remain in effect.

DATES: July 9-10, 2020, 1 to 3 p.m.

July 14-16, 2020, 1 to 3 p.m.

Aug. 3, 2020, 1 to 5 p.m.

ADDRESSES:

• July 9-10, 2020—Glendale, AZ (Location TBD)

• July 14-16, 2020—Denver, CO (Location TBD)

• Aug. 3, 2020—Spokane, WA (Northern Quest Resort)

FOR FURTHER INFORMATION CONTACT: Todd Lertjuntharangool, regional program manager, Region XI/AIAN, Office of Head Start, email Todd.Lertjuntharangool@acf.hhs.gov, or phone (202) 205-9503. Additional information and online meeting registration will be available at https://eclkc.ohs.acf.hhs.gov/about-us/article/2020-tribal-consultations.

SUPPLEMENTARY INFORMATION: In accordance with Section 640(l)(4) of the Head Start Act, 42 U.S.C. 9835(1)(4), ACF announces OHS Tribal Consultation Sessions for leaders of tribal governments operating Head Start and Early Head Start programs. The agenda for the scheduled OHS tribal consultations in Glendale, Arizona; Spokane, Washington; and Denver, Colorado, will be organized around the statutory purposes related to meeting the needs of AIAN children and families, taking into consideration funding allocations, distribution formulas, and other issues affecting the delivery of Head Start services in their geographic locations. In addition, OHS will share actions taken, and in progress, to address the issues and concerns raised in the 2019 OHS Tribal Consultations.

The consultation sessions will be conducted with elected or appointed leaders of tribal governments and their designated representatives. Designees must have a letter from the tribal government authorizing them to represent the tribe. Tribal governments must submit the designee letter at least 3 days in advance of the consultation sessions to Todd Lertjuntharangool at Todd.Lertjuntharangool@acf.hhs.gov. Other representatives of tribal organizations and Native nonprofit organizations are welcome to attend as observers.

A detailed report of each tribal consultation session will be prepared and made available within 45 days of the session to all tribal governments receiving funds for Head Start and Early Head Start programs. Tribes wishing to submit written testimony for the report should send testimony to Todd Lertjuntharangool at Todd.Lertjuntharangool@acf.hhs.gov, prior to each consultation session or within 30 days after each meeting.

OHS will summarize oral testimony and comments from the consultation sessions in each report without attribution, along with topics of concern and recommendations.

Megan E. Steel,
Executive Secretariat Certifying Officer.

[FR Doc. 2020-10440 Filed 5-14-20; 8:45 am]

BILLING CODE 4184-40-P